DEPARTMENT OF DEFENSE

Department of the Air Force

Acceptance of Group Application Under Public Law 95-202 and Department of Defense Directive (DODD) 1000.20

AGENCY: Department of the Air Force, DoD Civilian/Military Service Review Board.

ACTION: Notice.

SUMMARY: Under the provisions of Section 401, Public Law 95-202 and DoD Directive 100.20, the Department of Defense Civilian/Military Service Review Board has accepted an application on behalf of a group known as “Former Members of the Free Iraq Forces and Free Iraq Civil Affairs Program Who Served Under Direct Command of U.S. Army and U.S. Marine Corps Units During Operation Iraqi Freedom Across the Iraqi Freedom Theater of Operations During the Period 2002 Through 2018.” Persons with information or documentation pertinent to the determination of whether service of this group should be considered active military service to the Armed Forces of the United States are encouraged to submit such information or documentation within 60 days to the DoD Civilian/Military Service Review Board (DoD C/MSRB), 1500 West Perimeter Road, Suite 3700, Joint Base Andrews, MD 20762.

FOR FURTHER INFORMATION CONTACT: Mr. John K. Vallario, President, DoD C/MSRB, at 240-612-5380, john.vallario.1@us.af.mil. Copies of documents or other materials submitted cannot be returned.

Adriane Paris,
Air Force Federal Register Liaison Officer.

[FR Doc. 2022-20980 Filed 9-27-22; 8:45 am]

BILLING CODE 5001-10-P